DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona:
Maricopa (FEMA Docket No.: B-1279) | Unincorporated areas of Maricopa County (12-09-0756P) | The Honorable Don Stapley, 301 West Jefferson Street, 10th Floor, Phoenix, AZ 85009 | 2801 West Durango Street, Phoenix, AZ 85009 | August 17, 2012 | 040037
Maricopa (FEMA Docket No.: B-1280) | Town of Cave Creek (12-09-1536P) | The Honorable Vincent Francia, Mayor, Town of Cave Creek, 37622 North Cave Creek Road, Cave Creek, AZ 85331 | 37622 North Cave Creek, Cave Creek, AZ 85331 | January 4, 2013 | 040129
Maricopa (FEMA Docket No.: B-1280) | Unincorporated Areas of Maricopa County (12-09-1536P) | The Honorable Max W. Wilson, Chairman, Maricopa County Board of Supervisors, 301 West Jefferson Street, Phoenix, AZ 85009 | Maricopa County Flood Control District, 2801 West Durango Street, Phoenix, AZ 85009 | January 4, 2013 | 040037
California:
Fresno (FEMA Docket No.: B-1280) | Unincorporated Areas of Fresno County (12-09-1045P) | The Honorable Debbie Poochigian, Chair, Fresno County Board of Supervisors, 2281 Tulare Street, Room 300, Fresno, CA 93721 | Design Services Division, 2220 Tulare Street, 6th Floor, Fresno, CA 93721 | January 25, 2013 | 065029
Riverside (FEMA Docket No.: B-1280) | City of Moreno Valley (12-09-0582P) | The Honorable Henry T. Garcia, City Manager, 14177 Frederick Street, Moreno Valley, CA 92553 | 14177 Frederick Street, Moreno Valley, CA 92553 | February 15, 2013 | 065074
Riverside (FEMA Docket No.: B-1280) | City of Beaumont (12-09-2411P) | The Honorable Roger Berg, Mayor, City of Beaumont, 550 East 6th Street, Beaumont, CA 92223 | 550 East 6th Street, Beaumont, CA 92223 | February 9, 2013 | 060247
Riverside (FEMA Docket No.: B-1279) | Unincorporated areas of Riverside County (12-09-0462P) | The Honorable John F. Tavaglione, Chairman, Riverside County Board of Supervisors, 4080 Lemon Street, Riverside, CA 92501 | Riverside County Flood Control, Water Conservation District, 1995 Market Street, Riverside, CA 92501 | September 17, 2012 | 060245
San Diego (FEMA Docket No.: B-1279) | Unincorporated Areas of San Diego County (12-09-0044P) | The Honorable Ron Roberts, Chairman, San Diego County Board of Supervisors, 1600 Pacific Highway, San Diego, CA 92101 | 5555 Overland Avenue, San Diego, CA 92101 | August 28, 2012 | 060284
San Diego (FEMA Docket No.: B-1279) | City of San Diego (12-09-0966P) | The Honorable Jerry Sanders, Mayor, City of San Diego, 202 C Street, San Diego, CA 92101 | 202 C Street, San Diego, CA 92101 | October 9, 2012 | 060295
Colorado:
El Paso (FEMA Docket No.: B-1295) | Unincorporated Areas of El Paso County (12-08-0579P) | The Honorable Amy Lathan, Chair, El Paso County Board of Commisioners, 200 South Cascade Avenue, Suite 100, Colorado Springs, CO 8903 | Development Services Department, 2880 International Circle, Suite 110, Colorado Springs, CO 80910 | February 28, 2013 | 080059
Connecticut:
New Haven (FEMA Docket No.: B-1295) | Town of Beacon Falls (12-01-1573P) | The Honorable Gerald F. Smith, First Selectman, Town of Beacon Falls, 10 Maple Avenue, Beacon Falls, CT 06403 | Beacon Falls Town Hall, 10 Maple Avenue, Beacon Falls, CT 06403 | March 6, 2013 | 090072
New Haven (FEMA Docket No.: B-1279) | Town of Guilford (12-01-0839P) | The Honorable Joseph S. Mazza, First Selectman, Town of Guilford Board of Selectmen, 31 Park Street, Guilford, CT 06437 | 50 Boston Street, Guilford, CT 06437 | July 27, 2012 | 090077
New Haven (FEMA Docket No.: B-1280) | City of Meriden (12-01-1133P) | The Honorable Michael S. Rohde, Mayor, City of Meriden, 142 East Main Street, Meriden, CT 06450 | 142 East Main Street, Room 19, Meriden, CT 06450 | February 1, 2013 | 090081
Idaho:
Ada (FEMA Docket No.: B-1280) | Unincorporated Areas of Ada County (12-10-0639P) | The Honorable Rick Yzaguirre, Chairman, Ada County Board of Commissioners, 200 West Front Street, Boise, ID 83702 | 200 West Front Street, Boise, ID 83702 | January 25, 2013 | 160001
Ada (FEMA Docket No.: B-1280) | City of Meridian (11-10-0941P) | The Honorable Tammy de Weerd, Mayor, City of Meridian, 33 East Broadway Avenue, Meridian, ID 83642 | 33 East Broadway Avenue, Meridian, ID 83642 | February 15, 2013 | 160180
Ada (FEMA Docket No.: B-1280) | Unincorporated Areas of Ada County (11-10-0941P) | The Honorable Rick Yzaguirre, Chairman, Ada County Board of Commissioners, 200 West Front Street, Boise, ID 83702 | 200 West Front Street, Boise, ID 83702 | February 15, 2013 | 160001
Latah (FEMA Docket No.: B-1295) | City of Moscow (11-10-1574P) | The Honorable Nancy Chaney, Mayor, City of Moscow, 206 East 3rd Street, Moscow, ID 83843 | Moscow Community Development, 221 East 2nd Street, Moscow, ID 83843 | March 27, 2013 | 160090
Illinois:
Cook (FEMA Docket No.: B-1280) | Village of Bridgeview (12-05-6205P) | The Honorable Steven Landek, Mayor, Village of Bridgeview, 7500 South Oketo Avenue, Bridgeview, IL 60455 | 7500 South Oketo Avenue, Bridgeview, IL 60455 | January 10, 2013 | 170065
DuPage (FEMA Docket No.: B-1295) | Village of Roselle (12-05-8596P) | The Honorable Gayle Smolinski, Mayor, Village of Roselle, 31 South Prospect Street, Roselle, IL 30172 | Roselle Village Hall, 31 South Prospect Street, Roselle, IL 60172 | March 15, 2013 | 170216
Peoria (FEMA Docket No.: B-1280) | City of Peoria (12-05-6071P) | The Honorable Jim Ardis, Mayor, City of Peoria, 419 Fulton Street, Room 207, Peoria, IL 61602 | 3505 North Dries Lane, Peoria, IL 61604 | January 18, 2013 | 170536
Peoria (FEMA Docket No.: B-1280) | City of Peoria (12-05-6047P) | The Honorable Jim Ardis, Mayor, City of Peoria, 419 Fulton Street, Room 207, Peoria, IL 61602 | 3505 North Dries Lane, Peoria, IL 61604 | February 11, 2013 | 170536
Indiana:
Floyd (FEMA Docket No.: B-1279) | City of New Albany (12-05-0562P) | The Honorable Jeff M. Gahan, Mayor, City of New Albany, 311 Hauss Square, Suite 316, New Albany, IN 47150 | 311 Hauss Square, New Albany, IN 47150 | September 12, 2012 | 180062
Hendricks (FEMA Docket No.: B-1279) | Unincorporated areas of Hendricks County (12-05-0826P) | The Honorable Eric L. Wathen, President, Hendricks County Board of Commissioners, 355 South Washington Street, Danville, IN 46122 | 355 South Washington Street, Danville, IN 46122 | August 30, 2012 | 180415
Lake (FEMA Docket No.: B-1280) | Town of St. John (12-05-7462P) | The Honorable Mike Forbes, Town Council President, 10995 West 93rd Avenue, St. John, IN 46373 | 10995 West 93rd Avenue, St. John, IN 46373 | February 4, 2013 | 180141
Lake (FEMA Docket No.: B-1295) | City of Hammond (12-05-7873P) | The Honorable Thomas M. McDermott, Jr. Mayor, City of Hammond, 5925 Calumet Avenue, Hammond, IN 46320 | 5925 Calumet Avenue, Hammond, IN 46320 | March 1, 2013 | 180134
Lake (FEMA Docket No.: B-1295) | Town of Munster (12-05-7873P) | The Honorable David Nellans, President, Munster Town Council, 1005 Ridge Road, Munster, IN 46321 | 1005 Ridge Road, Munster, IN 46321 | March 1, 2013 | 180139
Iowa:
Black Hawk (FEMA Docket No.: B-1279) | City of Cedar Falls (12-07-1218P) | The Honorable Jon Crews, Mayor, City of Cedar Falls, 220 Clay Street, Cedar Falls, IA 50613 | 220 Clay Street, Cedar Falls, IA 50613 | April 12, 2012 | 190017
Kansas:
Sedwick (FEMA Docket No.: B-1295) | City of Wichita (12-07-0465P) | The Honorable Carl Brewer, Mayor, City of Wichita, 455 North Main, Wichita, KS 67202 | 455 North Main, 8th Floor, Wichita, KS 67202 | March 12, 2013 | 200328
Sedwick (FEMA Docket No.: B-1295) | City of Maize (12-07-0465P) | The Honorable Clair Donnelly, Mayor, City of Maize, 10100 West Grady Avenue, Maize, KS 67101 | 10100 West Grady Avenue, Maize, KS 67101 | March 12, 2013 | 200520
Sedwick (FEMA Docket No.: B-1295) | Unincorporated Areas of Sedwick County (12-07-0465P) | The Honorable Tim R. Norton, Chairman, Sedwick County Board of Commissioners, 525 North Main, Suite 320, Wichita, KS 67203 | 144 South Seneca Street, Wichita, KS 67213 | March 12, 2013 | 200321
Maine:
Cumberland (FEMA Docket No.: B-1279) | City of Portland (12-01-0271P) | The Honorable Michael Brennan, Mayor, City of Portland, 389 Congress Street, Portland, ME 04101 | 389 Congress Street, Portland, ME 04101 | September 14, 2012 | 230051
York (FEMA Docket No.: B-1279) | Town of Kittery (12-01-1257P) | The Honorable Judith Spiller, Chair, Kittery Town Council, 200 Rogers Road, Kittery, ME 03904 | 200 Rogers Road, Kittery, ME 03904 | November 23, 2012 | 230171
Massachusetts:
Norfolk (FEMA Docket No.: B-1295) | Town of Sharon (12-01-2415P) | The Honorable Richard Alan Powell, Chair, Town of Sharon Board of Selectman, 90 South Main Street, Sharon, MA 02067 | 217R South Main Street, Sharon, MA 02067 | March 11, 2013 | 250252
Plymouth (FEMA Docket No.: B-1280) | Town of Mattapoisett (12-01-2089P) | The Honorable Jordan C. Collyer, Chairman, Board of Selectmen, 16 Main Street, Mattapoisett, MA 02739 | 16 Main Street, Mattapoisett, MA 02739 | February 22, 2013 | 255214
Plymouth (FEMA Docket No.: B-1295) | Town of Wareham (12-01-2090P) | The Honorable Stephen M. Holmes, Chairman, Town of Wareham Board of Selectman, 54 Marion Road, Wareham, MA 02571 | 54 Marion Road, Wareham, MA 02571 | March 15, 2013 | 255223
Michigan:
Macomb (FEMA Docket No.: B-1279) | Charter Township of Clinton (12-05-2784P) | The Honorable Robert J. Cannon, Supervisor, Clinton Township, Board of Trustees, 40700 Romeo Plank Road, Clinton Township, MI 48038 | 40700 Romeo Plank Road, Clinton Township, MI 48038 | October 26, 2012 | 260121
Oakland (FEMA Docket No.: B-1279) | City of Troy (12-05-7920P) | The Honorable Janice Daniels, Mayor, City of Troy, 500 West Big Beaver Road, Troy, MI 48084 | 500 West Big Beaver Road, Troy, MI 48084 | December 28, 2012 | 260180
Ingham (FEMA Docket No.: B-1279) | Charter Township of Meridian (12-05-0834P) | The Honorable Susan McGillicuddy, Supervisor, Meridian Township Board, 5151 Marsh Road, Okemos, MI 48864 | 5151 Marsh Road, Okemos, MI 48864 | October 22, 2012 | 260093
Minnesota:
Olmsted (FEMA Docket No.: B-1295) | City of Rochester (12-05-4929P) | The Honorable Ardell F. Brede, Mayor, City of Rochester, 201 4th Street Southeast, Room 281, Rochester, MN 55904 | 2122 Campus Drive Southeast, Suite 100, Rochester, MN 55904 | March 21, 2013 | 275246
Rice (FEMA Docket No.: B-1279) | City of Northfield (12-05-1809P) | The Honorable Mary Rossing, Mayor, City of Northfield, 801 Washington Street, Northfield, MN 55057 | 801 Washington Street, Northfield, MN 55057 | October 2, 2012 | 270406
Missouri:
Boone (FEMA Docket No.: B-1279) | Unincorporated areas of Boone County (12-07-0634P) | The Honorable Dan Atwill, Presiding Commissioner, Boone County Board of Commissioners, 801 East Walnut, Room 333, Columbia, MO 65201 | 801 East Walnut, Columbia, MO 65201 | August 31, 2012 | 290034
St. Charles (FEMA Docket No.: B-1279) | Unincorporated areas of St. Charles County (12-07-0766P) | The Honorable Nancy Matheny, Chair, St. Charles County Council, 100 North 3rd Street, Suite 124, St. Charles, MO 63301 | 300 North 2nd Street, St. Charles, MO 63301 | December 20, 2012 | 290315
St. Charles (FEMA Docket No.: B-1279) | City of O'Fallon (12-07-0766P) | The Honorable Bill Hennessy, Mayor, City of O'Fallon, 100 North Main Street, O'Fallon, MO 63366 | 100 North Main Street, O'Fallon, MO 63366 | December 20, 2012 | 290316
Greene (FEMA Docket No.: B-1295) | City of Springfield (12-07-2300P) | The Honorable Bob Stephens, Mayor, City of Springfield, 840 Boonville Avenue, Springfield, MO 65801 | 840 Boonville Avenue, Springfield, MO 65801 | March 29, 2013 | 290149
Greene (FEMA Docket No.: B-1279) | City of Springfield (12-07-2301P) | The Honorable Bob Stephens, Mayor, City of Springfield, 840 Boonville Avenue, Springfield, MO 65801 | 840 Boonville Avenue, Springfield, MO 65801 | December 27, 2012 | 290149
Nebraska:
Dakota (FEMA Docket No.: B-1279) | Village of Homer (12-07-1010P) | The Honorable Corbet Dorsey, Chairman, Homer Village Board, 110 John Street, Homer, NE 68030 | 110 John Street, Homer, NE 68030 | September 21, 2012 | 310241
Lancaster (FEMA Docket No.: B-1279) | City of Lincoln (12-07-2343P) | The Honorable Chris Beutler, Mayor, City of Lincoln, 555 South 10th Street, Suite 301, Lincoln, NE 68508 | 555 South 10th Street, Suite 301, Lincoln, NE 68508 | December 7, 2012 | 315273
New Hampshire:
Belknap (FEMA Docket No.: B-1279) | Town of Belmont (12-01-0021P) | The Honorable Jon Pike, Chairman, Board of Selectmen, 143 Main Street, Belmont, NH 03220 | 143 Main Street, Belmont, NH 03220 | August 17, 2012 | 330002
Hillsborough (FEMA Docket No.: B-1279) | City of Nashua (12-01-0285P) | The Honorable Donnalee Lozeau, Mayor, City of Nashua, 229 Main Street, Nashua, NH 03061 | 229 Main Street, Nashua, NH 03061 | November 27, 2012 | 330097
Ohio:
Athens (FEMA Docket No.: B-1279) | City if Athens (12-05-4250P) | The Honorable Paul Wiehl, Mayor, City of Athens, 8 East Washington Street, Athens, OH 45701 | 28 Curran Drive, Athens, OH 45701 | December 21, 2012 | 390016
Athens (FEMA Docket No.: B-1279) | Unincorporated areas of Athens County (12-05-4250P) | The Honorable Lenny Eliason, Chair, Athens County Board of Commissioners, 15 South Court Street, Room 234, Athens, OH 45701 | 69 South Plains Road, The Plains, OH 45780 | December 21, 2012 | 390760
Cuyahoga (FEMA Docket No.: B-1279) | City of Strongsville (12-05-0377P) | The Honorable Thomas P. Perciak, Mayor, City of Strongsville, 16099 Foltz Industrial Parkway, Strongsville, OH 44149 | 16099 Foltz Industrial Parkway, Strongsville, OH 44149 | December 7, 2012 | 390132
Franklin (FEMA Docket No.: B-1280) | City of Columbus (12-05-3607P) | The Honorable Michael B. Coleman, Mayor, City of Columbus, 90 West Broad Street, Columbus, OH 43215 | 1250 Fairwood Avenue, Columbus, OH 43206 | January 31, 2013 | 390170
Franklin (FEMA Docket No.: B-1279) | City of Columbus (11-05-7877P) | The Honorable Michael B. Coleman, Mayor, City of Columbus, 90 West Broad Street, 2nd Floor, Columbus, OH 43215 | 90 West Broad Street, Columbus, OH 43215 | August 30, 2012 | 390170
Franklin (FEMA Docket No.: B-1279) | Unincorporated areas of Franklin County (11-05-7877P) | The Honorable Marilyn Brown, President, Franklin County Board of Commissioners, 373 South High Street, 26th Floor, Columbus, OH 43215 | 280 East Broad Street, Columbus, OH 43215 | August 30, 2012 | 390167
Lucas (FEMA Docket No.: B-1279) | City of Toledo (12-05-6346P) | The Honorable Michael P. Bell, Mayor, City of Toledo, 640 Jackson Street, Suite 2200, Toledo, OH 43604 | 6200 Bay Shore Road, Suite 300, Toledo, OH 43616 | December 28, 2012 | 395373
Montgomery (FEMA Docket No.: B-1279) | City of Englewood (12-05-5251P) | The Honorable Patricia Burnside, Mayor, City of Englewood, 333 West National Road, Englewood, OH 45322 | 333 West National Road, Englewood, OH 45322 | December 14, 2012 | 390828
Oregon:
Clackamas (FEMA Docket No.: B-1279) | City of Lake Oswego (12-10-0728P) | The Honorable Jack Hoffman, Mayor, City of Lake Oswego, 380 A Avenue, Lake Oswego, OR 97034 | 380 A Avenue, Lake Oswego, OR 97034 | August 24, 2012 | 410018
Jackson (FEMA Docket No.: B-1280) | Unincorporated Areas Of Jackson County (11-10-1120P) | The Honorable Don Skundrick, Chair, Jackson County Board of Commissioners, 10 South Oakdale Avenue, Room 100, Medford, OR 97501 | 10 South Oakdale Avenue, Medford, OR 97501 | February 22, 2013 | 415589
Jackson (FEMA Docket No.: B-1279) | Unincorporated areas of Jackson County, OR (11-10-1783P) | The Honorable Don Skundrick, Chair, Jackson County Board of Commissioners, 10 South Oakdale Avenue, Room 100, Medford, OR 97501 | 10 South Oakdale Avenue, Medford, OR 97501 | December 6, 2012 | 415589
Josephine (FEMA Docket No.: B-1279) | Unincorporated areas of Josephine County (11-10-1783P) | The Honorable Simon G. Hare, Chair, Josephine County Board of Commissioners, 500 Northwest 6th Street, Grant Pass, OR 97526 | 510 Northwest 4th Street, Grants Pass, OR 97526 | December 6, 2012 | 415590
Linn (FEMA Docket No.: B-1279) | City of Sweet Home (12-10-0280P) | The Honorable Craig Fentiman, Mayor, City of Sweet Home, 1140 12th Avenue, Sweet Home, OR 97386 | 1140 12th Avenue, Sweet Home, OR 97386 | December 27, 2012 | 410146
Marion (FEMA Docket No.: B-1279) | City of Salem (11-10-1646P) | The Honorable Anna M. Peterson, Mayor, City of Salem, 555 Liberty Street Southeast, Room 220, Salem, OR 97301 | 555 Liberty Street Southeast, Salem, OR 97301 | August 31, 2012 | 410167
Marion (FEMA Docket No.: B-1279) | Unincorporated areas of Marion County (12-10-0559P) | The Honorable Patti Milne, Chair, Marion County Board of Commissioners, 451 Division Street Northeast, Salem, OR 97301 | 5155 Silverton Road, Northeast, Salem, OR 97305 | September 21, 2012 | 410154
Multnomah (FEMA Docket No.: B-1279) | City of Fairview (11-10-1884P) | The Honorable Mike Weatherby, Mayor, City of Fairview, 1300 Northeast Village Street, Fairview, OR 97024 | 1300 Northeast Village Street, Fairview, OR 97024 | July 27, 2012 | 410180
Multnomah, (FEMA Docket No.: B-1279) | City of Troutdale (11-10-1884P) | The Honorable James Knight, Mayor, City of Troutdale, 104 Southeast Kibling, Troutdale, OR 97060 | 19 East Historic Columbia River Highway, Troutdale, OR 97060 | July 27, 2012 | 410184
Multtnomah (FEMA Docket No.: B-1279) | City of Wood Village (11-10-1884P) | The Honorable Patricia Smith, Mayor, City of Fairview, 2055 Northeast 238th Drive, Wood Village, OR 97060 | 2055 Northeast 238th Drive, Wood Village, OR 97060 | July 27, 2012 | 410185
Washington:
King (FEMA Docket No.: B-1280) | City of Shoreline (12-10-0141P) | The Honorable Keith McGlashan, Mayor, City of Shoreline, 17500 Midvale Avenue, North, Shoreline, WA 98133 | 17500 Midvale Avenue, North, Shoreline, WA 98133 | February 4, 2013 | 530327
King (FEMA Docket No.: B-1279) | Unincorporated areas of King County (11-10-1517P) | The Honorable Dow Constantine, King County, Executive, 401 5th Avenue, Suite 800, Seattle, WA 98104 | 201 South Jackson Street, Suite 600, Seattle, WA 98055 | August 17, 2012 | 530071
Spokane (FEMA Docket No.: B-1279) | Unincorporated areas of Spokane County (12-10-0760P) | The Honorable Todd Mielke, Chair, Spokane County Board of Commissioners, 1116 West Broadway Avenue, Spokane, WA 99260 | 1026 West Broadway Avenue, Spokane, WA 99260 | November 21, 2012 | 530174
Wisconsin:
Brown (FEMA Docket No.: B-1280) | Village of Howard (12-05-4503P) | The Honorable Burt R. McIntyre, President, Howard Town Board of Trustees, 2456 Glendale Avenue, Green Bay, WI 54313 | 2456 Glendale Avenue, Green Bay, WI 54313 | March 4, 2013 | 550023
Dane (FEMA Docket No.: B-1295) | City of Monona (12-05-5696P) | The Honorable Bob Miller, Mayor, City of Monona, 5211 Schluter Road, Monona, WI 53716 | 5211 Schluter Road, Monona, WI 53716 | March 15, 2013 | 550088
Dane (FEMA Docket No.: B-1295) | City of Madison (12-05-5696P) | The Honorable Paul R. Soglin, Mayor, City of Madison, 210 Martin Luther King Jr. Boulevard, Room 403, Madison, WI 53703 | Department of Public Works and Transportation, Engineering Division, 210 Martin Luther King Junior Boulevard, Room 115, Madison, WI 53703 | March 15, 2013 | 550083
Dodge (FEMA Docket No.: B-1279) | City of Beaver Dam (11-05-9168P) | The Honorable Tom Kennedy, Mayor, City of Beaver Dam, 205 South Lincoln Avenue, Beaver Dam, WI 53916 | 205 South Lincoln Avenue, Beaver Dam, WI 53916 | September 14, 2012 | 550095
Green (FEMA Docket No.: B-1279) | Unincorporated areas of Green County (12-05-1770P) | The Honorable Arthur Carter, Chair, Green County Board of Supervisors, 1016 16th Avenue, Monroe, WI 53566 | 1016 16th Avenue, Monroe, WI 53566 | September 13, 2012 | 550157
Outagamie (FEMA Docket No.: B-1279) | Unincorporated areas of Outagamie County (12-05-1117P) | The Honorable Thomas Nelson, Outagamie County Executive, 410 South Walnut Street, Appleton, WI 54911 | 410 South Walnut Street, Appleton, WI 54911 | December 28, 2012 | 550302
Richland (FEMA Docket No.: B-1279) | City of Richland (11-05-7586P) | The Honorable Larry Fowler, Mayor, City of Richland Center, 450 South Main Street, Richland Center, WI 53581 | 450 South Main Street, Richland Center, WI 53581 | August 24, 2012 | 555576
Richland (FEMA Docket No.: B-1279) | Unincorporated areas of Richland County (11-05-7586P) | The Honorable Jeanetta Kirkpatrick, Chair, Richland County Board of Supervisors, 181 West Seminary Street, Richland Center, WI 53581 | 181 West Seminary Street, Room 309, Richland Center, WI 53581 | August 24, 2012 | 550356
Rock (FEMA Docket No.: B-1280) | City of Janesville (12-05-4053P) | The Honorable Eric Levitt, Manager, City of Janesville, 18 North Jackson Street, 3rd Floor, Janesville, WI 53547 | 18 North Jackson Street, Janesville, WI 53547 | November 21, 2012 | 555560
Sheboygan (FEMA Docket No.: B-1279) | Unincorporated areas of Sheboygan County (12-05-4154P) | The Honorable Roger L. Testroete, Chairman, Sheboygan County Board, 508 New York Avenue, Sheboygan, WI 53081 | 508 New York Avenue, Room 335, Sheboygan, WI 53081 | December 21, 2012 | 550424
Sheboygan (FEMA Docket No.: B-1279) | Village of Glenbeulah (12-05-4154P) | The Honorable Douglas Daun, President, Glenbeulah Village Board, 110 North Swift Street, Glenbeulah, WI 53023 | 110 North Swift Street, Glenbeulah, WI 53023 | December 21, 2012 | 550570
Trempealeau (FEMA Docket No.: B-1280) | City of Arcadia (12-05-1591P) | The Honorable John Kimmel, Mayor, City of Arcadia, 203 West Main Street, Arcadia, WI 54612 | 203 West Main Street, Arcadia, WI 54612 | February 15, 2013 | 550439
Trempealeau (FEMA Docket No.: B-1280) | Unincorporated Areas of Trempealeau County (12-05-1591P) | The Honorable Ernest Vold, Chair, Trempealeau County, Board of Supervisors, 36245 Main Street, Whitehall, WI 54773 | 36245 Main Street, Whitehall, WI 54773 | February 15, 2013 | 555585
Walworth (FEMA Docket No.: B-1295) | Village of Genoa City (12-05-6204P) | The Honorable John Wrzeszcz, President, Village of Genoa City Board, 810 Oak Ridge Lane, Genoa City, WI 53128 | Village Hall, 715 Walworth Street, Genoa City, WI 53128 | March 15, 2013 | 550465
Walworth (FEMA Docket No.: B-1295) | Unincorporated Areas of Walworth County (12-05-6204P) | The Honorable Nancy Russell, Chairperson, Walworth County Board of Supervisors, 100 West Walworth Street, Elkhorn, WI 53121 | 100 West Walworth Street, Elkhorn, WI 53121 | March 15, 2013 | 550462
Waukesha (FEMA Docket No.: B-1279) | Unincorporated areas of Waukesha County (12-05-1322P) | The Honorable Don Vrakas, Waukesha County Executive, 515 West Moreland Boulevard, Room 320, Waukesha, WI 53188 | 1320 Pewaukee Road, Room 230, Waukesha, WI 53188 | November 16, 2012 | 550476

(Catalog of Federal Domestic Assistance No. 97.022, “Flood Insurance.”)

Roy E. Wright,
Deputy Associate Administrator for Mitigation, Department of Homeland Security, Federal Emergency Management Agency.

[FR Doc. 2013-11589 Filed 5-15-13; 8:45 am]

BILLING CODE 9110-12-P